DEPARTMENT OF TRANSPORTATION

Coast Guard

[USCG 2002-11351]

Collection of Information Under Review by Office of Management and Budget (OMB): OMB Control Numbers 2115-0539, 2115-0504, 2115-0576, 2115-0581, and 2115-0626

AGENCY: Coast Guard, DOT.

ACTION: Request for comments.

SUMMARY: In compliance with the Paperwork Reduction Act of 1995, the Coast Guard intends to seek the approval of OMB for the renewal of five Information Collection Requests (ICRs). The ICRs comprise Requirements for Lightering of Oil and Hazardous Material Cargoes, Tank Vessel Examination Letters, Certificates of Compliance, Boiler/Pressure Vessel Repairs, Cargo Gear Records, and Shipping Papers, Instructional Material for Lifesaving, Fire Protection and Emergency Equipment, Vapor Control Systems for Facilities and Tank Vessels, and Alternate Compliance Program. Before submitting the ICRs to OMB, the Coast Guard is inviting comments on them as described below.

DATES: Comments must reach the Coast Guard on or before March 26, 2002.

ADDRESSES: To make sure that your comments and related material do not enter the docket [USCG 2002-11351] more than once, please submit them by only one of the following means:

(1) By mail to the Docket Management Facility, U.S. Department of Transportation, room PL-401, 400 Seventh Street SW., Washington, DC 20590-0001. Caution: Because of recent delays in the delivery of mail, your comments may reach the Facility more quickly if you choose one of the other means described below.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this notice. Comments and material received from the public, as well as documents mentioned in this notice as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

Copies of the complete ICR are available through this docket on the Internet at http://dms.dot.gov, and also from Commandant (G-CIM-2), U.S. Coast Guard Headquarters, room 6106 (Attn: Barbara Davis), 2100 Second Street SW., Washington, DC 20593-0001. The telephone number is 202-267-2326.

FOR FURTHER INFORMATION CONTACT: Barbara Davis, Office of Information Management, 202-267-2326, for questions on these documents; or Dorothy Beard, Chief, Documentary Services Division, U.S. Department of Transportation, 202-366-5149, for questions on the docket.

Request for Comments

The Coast Guard encourages interested persons to submit comments. Persons submitting comments should include their names and addresses, identify this document [USCG 2002-11351], and give the reasons for the comments. Please submit all comments and attachments in an unbound format no larger than 8½ by 11 inches, suitable for copying and electronic filing. Persons wanting acknowledgment of receipt of comments should enclose stamped self-addressed postcards or envelopes.

Information Collection Requests

1. Title: Requirements for Lightering of Oil and Hazardous Material Cargoes.

OMB Control Number: 2115-0539.

Summary: The information for this report allows the Coast Guard to provide timely response to an emergency and minimize the environmental damage from an oil or hazardous material spill. The information also allows the Coast Guard to control the location and procedures for lightering activities.

Need: 46 U.S.C. 3715 authorizes the Coast Guard to establish lightering rules. 33 CFR 156.200 to 156.330 prescribes the Coast Guard rules for lightering, including pre-arrival notice, reporting of incidents and operating conditions.

Respondents: Owners and operators of vessels.

Frequency: On occasion.

Burden Estimate: The estimated burden is 228 hours a year.

2. Title: Tank Vessel Examination Letters, Certificates of Compliance, Boiler/Pressure Vessel Repairs, Cargo Gear Records, and Shipping Papers.

OMB Control Number: 2115-0504.

Summary: This information is needed to enable the Coast Guard to fulfill its responsibilities for maritime safety under 46 U.S.C. The affected public includes some owners and operators of large merchant vessels and all foreign-flag tankers calling at U.S. ports.

Need: 46 U.S.C. 3301, 3305, 3306, 3702, 3703, 3711, and 3714 authorizes the Coast Guard to establish marine safety regulations to protect life, property, and the environment. 46 CFR prescribe these Coast Guard rules. The requirements for reporting Boiler/Pressure Valve Repairs, maintaining Cargo Gear Records, maintaining Shipping Papers, issuance of Certificates of Compliance (CG-3585) and Tank Vessel Examination Letters (CG-840S-1/CG-840S-2, as appropriate) provide the marine inspector with available information as to the condition of a vessel and its equipment. It also contains information on the vessel owner and lists the type and amount of cargo that has been or is being transported. These requirements all relate to the promotion of safety of life at sea and protection of the marine environment.

Respondents: Owners and operators of vessels.

Frequency: On occasion.

Burden Estimate: The estimated burden is 17,555 hours a year.

3. Title: Instructional Material for Lifesaving, Fire Protection and Emergency Equipment.

OMB Control Number: 2115-0576.

Summary: This information is needed to ensure that vessel crews have instructional material for lifesaving, firefighting and emergency equipment. The material is used during training sessions and during emergencies. It is needed because crew members must have complete information on the proper operation of equipment.

Need: 46 U.S.C. 3306 authorizes the Coast Guard to establish regulations concerning lifesaving, fire protection and other equipment. 46 CFR Subchapters Q and W prescribes regulations that include the instructional materials needed to ensure a vessel's crew has the necessary information on the proper use of lifesaving, fire protection and emergency equipment.

Respondents: Manufacturers of Equipment.

Frequency: On occasion.

Burden Estimate: The estimated burden is 22,516 hours a year.

4. Title: Vapor Control Systems for Facilities and Tank Vessels.

OMB Control Number: 2115-0581.

Summary: The information is needed to ensure compliance with U.S. rules for the design of facility and tank vessel vapor control systems (VCS). The information is also needed to determine the qualifications of a certifying entity.

Need: 33 U.S.C. 1225 and 46 U.S.C. 3703 authorize the Coast Guard to establish rules to promote the safety of life and property of facilities and vessels. 33 CFR part 154.800 prescribes the Coast Guard rules for VCS and certifying entities.

Respondents: Owners, operators of facilities and tank vessels, and certifying entities.

Frequency: On occasion.

Burden Estimate: The estimated burden is 1,073 hours a year.

5. Title: Alternate Compliance Program.

OMB Control Number: 2115-0626.

Summary: This information is used by the Coast Guard to assess vessels participating in the voluntary Alternate Compliance Program (ACP) prior to issuance of a Certificate of Inspection.

Need: 46 U.S.C. 3306, 3316, and 3703 authorize the Coast Guard to establish vessel inspection regulations and inspection alternatives. 46 CFR part 8 prescribes the Coast Guard regulations for recognizing classification societies and enrollment of U.S.-flag vessels in ACP.

Respondents: Recognized classification societies.

Frequency: On occasion.

Burden Estimate: The estimated burden is 150 hours a year.

Dated: January 17, 2002.
D.F. Shuell,
Acting Director of Information Technology.

[FR Doc. 02-1870 Filed 1-24-02; 8:45 am]

BILLING CODE 4910-15-P